DEPARTMENT OF ENERGY

Federal Energy Regulatory Commission

[Docket No. CP04-362-000]

Colorado Interstate Gas Company; Notice of Intent To Prepare an Environmental Assessment for the Proposed Boehm Storage Field Abandonment and Conversion Project and Request for Comments on Environmental Issues

July 8, 2004.

The staff of the Federal Energy Regulatory Commission (FERC or Commission) will prepare an environmental assessment (EA) that will discuss the environmental impacts of the Boehm Storage Field Abandonment and Conversion Project involving abandonment, conversion, and/or reclassification of certain natural gas storage wells and gathering lines by Colorado Interstate Gas Company (CIG) in Morton County, Kansas.¹ This notice explains the scoping process we ² will use to gather input from the public and interested agencies on the project. Your input will help us determine which issues need to be evaluated in the EA. Please note that the scoping period will close on August 9, 2004.

¹ CIG's application was filed with the Commission under Section 7 of the Natural Gas Act and part 157 of the Commission's regulations.

² “We,” “us,” “our” refer to the environmental staff of the Office of Energy Projects.

If you are a landowner receiving this notice, you may be contacted by a company representative about existing wells, or storage gathering pipelines. CIG proposes to abandon all affected gathering lines in place.

A fact sheet prepared by the FERC entitled “An Interstate Natural Gas Facility On My Land? What Do I Need To Know?” was attached to the project notice CIG provided to landowners. This fact sheet addresses a number of typically asked questions, including how to participate in the Commission's proceedings. It is available for viewing on the FERC Internet Web site (http://www.ferc.gov).

Summary of the Proposed Project

CIG proposes to plug and abandon nine wells and to convert or reclassify an additional 12 wells within the Boehm Storage Field. These activities are necessary for CIG to comply with gas storage regulations adopted by the Kansas Corporation Commission (KCC) on July 1, 2002, and to allow CIG to operate the Boehm Storage Field on a more efficient basis. Specifically, CIG is required to obtain a Gas Storage Operating Permit for the Boehm Storage Field from the KCC. In order to comply with requirements of the permit, any well that does not demonstrate mechanical integrity must either be repaired or plugged and abandoned.

Specifically, CIG proposes to plug and abandon the following wells for the reasons listed:

• Well Nos. 1, 11, 17, and 30, due to subsurface conditions, and in concert with the KCC's new regulations;

• Well Nos. 6, 18, 29, and 43. With the continued depletion of the Keyes Reservoir, these observation wells are no longer needed; and

• Well No. 38, designated as “G” observation well. This well is located at some distance from the lateral extent of the “G” storage zone in Boehm.

In addition, CIG also proposes to:

• Convert and reclassify four Keyes observation wells (Well Nos. 25, 37, 39, and 42) into “G” observation wells;

• Convert and reclassify three “G” injection/withdrawal wells (Well Nos. 36, 44, and 47) and one Keyes observation well (Well No. 21) to “G” Reservoir observation wells; and

• Convert and reclassify three Keyes blowdown wells (Well Nos. 23, 26, and 34) as “G” injection/withdrawal wells; and

• Convert and reclassify one Keyes blowdown well (Well No. 35) as a Keyes observation well.

The location of the project facilities is shown in appendix 1.³

³ The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices werre sent to all those receiving this notice in the mail.

Land Requirements for Proposed Activities

The proposed activities would temporarily impact approximately 43.5 acres, which includes a construction area of 300 feet by 300 feet (2.07 acres) for each well. A significant portion of this area (43.0 acres) would be used for staging and work area purposes only. No grading or vegetation removal would be required. Approximately 0.4 acre would be permanently impacted by the proposed activities, which includes a bellhole of approximately 25 feet by 25 feet (0.02 acre) around each well.

No new access roads or expansion of existing access roads would be required for project activities. No new permanent right-of-way, extra temporary work areas, or storage areas have been identified for the project.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA, we will discuss impacts that could occur as a result of the proposed project under these general headings:

• Geology and soils.

• Water resources.

• Land use.

• Cultural resources.

• Vegetation and wildlife.

• Air quality and noise.

• Endangered and threatened species.

Our independent analysis of the issues will be included in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP04-362-000.

• Mail your comments so that they will be received in Washington, DC on or before August 9, 2004.

We will include all comments that we receive within a reasonable time frame in our environmental analysis of this project. To expedite our receipt and consideration of your comments, the Commission strongly encourages electronic submission of any comments on this project. See 18 CFR 385.2001(a)(1)(iii) and the instructions on the Commission's Web site at http://www.ferc.gov under the “e-Filing” link and the link to the User's Guide. Before you can submit comments you will need to create a free account, which can be created by clicking on “Login to File” and then “New User Account.” You will be asked to select the type of submission you are making. This submission is considered a “Comment on Filing.”

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners whose property may be used temporarily for project purposes. By this notice we are also asking governmental agencies, especially those in appendix 3, to express their interest in becoming cooperating agencies for the preparation of the EA.

Additional Information

Additional information about the project is available from the Commission's Office of External Affairs, at 1-866-208-FERC (3372) or on the FERC Internet website (http://www.ferc.gov) using the eLibrary link. Click on the eLibrary link, click on “General Search” and enter the docket number excluding the last three digits in the Docket Number field (i.e., CP04-362). Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-1526 Filed 7-13-04; 8:45 am]

BILLING CODE 6717-01-P